DEPARTMENT OF TRANSPORTATION

Federal Aviation Administration

14 CFR Part 97

[Docket No. 31303; Amdt. No. 3897]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 13, 2020. The compliance date for each SIAP, associated Takeoff Minimums, and ODP is specified in the amendatory provisions. The incorporation by reference of certain publications listed in the regulations is approved by the Director of the Federal Register as of April 13, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on March 20, 2020.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 23 April 2020

Truckee, CA, Truckee-Tahoe, RNAV (GPS) RWY 20, Amdt 1A

Saluda, VA, Hummel Field, Takeoff Minimums and Obstacle DP, Amdt 2

Effective 21 May 2020

Anaktuvuk Pass, AK, Anaktuvuk Pass, AKUMY FOUR, Graphic DP

Anaktuvuk Pass, AK, Anaktuvuk Pass, NDB-B, Amdt 1A, CANCELLED

Anaktuvuk Pass, AK, Anaktuvuk Pass, RNAV (GPS)-A, Amdt 2

Anaktuvuk Pass, AK, Anaktuvuk Pass, Takeoff Minimums and Obstacle DP, Amdt 2

Batesville, AR, Batesville Rgnl, Takeoff Minimums and Obstacle DP, Amdt 3B

Lodi, CA, Lodi, RNAV (GPS)-B, Orig-B

Lakeland, FL, Lakeland Linder Intl, ILS OR LOC RWY 9, ILS RWY 9 (SA CAT I), ILS RWY 9 (SA CAT II), Amdt 1

Orlando, FL, Orlando Intl, ILS OR LOC RWY 17L, ILS RWY 17L (SA CAT I), ILS RWY 17L (CAT II), ILS RWY 17L (CAT III), Amdt 3

Orlando, FL, Orlando Intl, ILS OR LOC RWY 35R, ILS RWY 35R (SA CAT I), ILS RWY 35R (CAT II), ILS RWY 35R (CAT III), Amdt 4

Monroe, GA, CY Nunnally Memorial, Takeoff Minimums and Obstacle DP, Amdt 1A

Sandersville, GA, Kaolin Field, RNAV (GPS) RWY 13, Amdt 3

Sandersville, GA, Kaolin Field, RNAV (GPS) RWY 31, Amdt 3

Sandersville, GA, Kaolin Field, Takeoff Minimums and Obstacle DP, Amdt 3

Clinton, IA, Clinton Muni, RNAV (GPS) RWY 32, Amdt 1B

Perry, IA, Perry Muni, RNAV (GPS) RWY 14, Orig-B

Sioux City, IA, Sioux Gateway/Brig Gen Bud Day Field, RNAV (GPS) RWY 13, Orig-F

Sioux City, IA, Sioux Gateway/Brig Gen Bud Day Field, RNAV (GPS) RWY 31, Orig-H

Sioux City, IA, Sioux Gateway/Brig Gen Bud Day Field, VOR OR TACAN RWY 13, Amdt 18D, CANCELLED

Chicago, IL, Chicago O'Hare Intl, ILS OR LOC RWY 4R, ILS RWY 4R (SA CAT I), ILS RWY 4R (SA CAT II), Amdt 8A

Clay Center, KS, Clay Center Muni, RNAV (GPS) RWY 17, Amdt 1

Clay Center, KS, Clay Center Muni, RNAV (GPS) RWY 35, Amdt 1

Rangeley, ME, Stephen A Bean Muni, NDB-A, Amdt 5, CANCELLED

Rangeley, ME, Stephen A Bean Muni, RNAV (GPS)-D, Amdt 1

Rangeley, ME, Stephen A Bean Muni, Takeoff Minimums and Obstacle DP, Amdt 1A

Ada/Twin Valley, MN, Norman County Ada/Twin Valley, RNAV (GPS) RWY 33, Orig-B

Baudette, MN, Baudette Intl, ILS OR LOC RWY 30, Amdt 1

Bigfork, MN, Bigfork Muni, RNAV (GPS) RWY 33, Orig-E

Long Prairie, MN, Todd Field, RNAV (GPS) RWY 34, Amdt 3

Long Prairie, MN, Todd Field, Takeoff Minimums and Obstacle DP, Amdt 1

Longville, MN, Longville Muni, Takeoff Minimums and Obstacle DP, Amdt 1

Rochester, MN, Rochester Intl, COPTER ILS Y OR LOC Y RWY 31, Amdt 3A

Rochester, MN, Rochester Intl, ILS Z OR LOC Z RWY 31, ILS Z RWY 31 (SA CAT I), ILS Z RWY 31 (SA CAT II), Amdt 23A

Kansas City, MO, Charles B Wheeler Downtown, ILS OR LOC RWY 3, Amdt 5A

Natchez, MS, Hardy-Anders Field Natchez-Adams County, ILS OR LOC RWY 13, Amdt 2B

Natchez, MS, Hardy-Anders Field Natchez-Adams County, RNAV (GPS) RWY 13, Amdt 1B

Natchez, MS, Hardy-Anders Field Natchez-Adams County, RNAV (GPS) RWY 18, Amdt 1B

Natchez, MS, Hardy-Anders Field Natchez-Adams County, RNAV (GPS) RWY 31, Amdt 1C

Natchez, MS, Hardy-Anders Field Natchez-Adams County, VOR RWY 18, Amdt 11

Hardin, MT, Big Horn County, RNAV (GPS) RWY 26, Orig

Hardin, MT, Big Horn County, Takeoff Minimums and Obstacle DP, Orig

Berlin, NH, Berlin Rgnl, RNAV (GPS) RWY 18, Orig-B

Berlin, NH, Berlin Rgnl, Takeoff Minimums and Obstacle DP, Amdt 2

Berlin, NH, Berlin Rgnl, VOR/DME RWY 18, Amdt 2A, CANCELLED

New York, NY, John F Kennedy Intl, ILS OR LOC RWY 4L, Amdt 11D

New York, NY, John F Kennedy Intl, ILS OR LOC RWY 4R, ILS RWY 4 (CAT II), ILS RWY 4R (CAT III), Amdt 30B

New York, NY, John F Kennedy Intl, ILS OR LOC RWY 31L, Amdt 11B

New York, NY, John F Kennedy Intl, ILS OR LOC RWY 31R, Amdt 16B

New York, NY, John F Kennedy Intl, RNAV (GPS) RWY 22R, Amdt 1G

New York, NY, John F Kennedy Intl, RNAV (GPS) Y RWY 4L, Amdt 3B

New York, NY, John F Kennedy Intl, RNAV (GPS) Y RWY 4R, Amdt 2B

New York, NY, John F Kennedy Intl, RNAV (GPS) Y RWY 13R, Orig-A

New York, NY, John F Kennedy Intl, RNAV (GPS) Y RWY 22L, Amdt 1F

New York, NY, John F Kennedy Intl, RNAV (GPS) Y RWY 31L, Amdt 2B

New York, NY, John F Kennedy Intl, RNAV (GPS) Y RWY 31R, Amdt 2C

New York, NY, John F Kennedy Intl, VOR RWY 4L, Amdt 1B

New York, NY, John F Kennedy Intl, VOR RWY 4R, Orig-B

New York, NY, John F Kennedy Intl, VOR RWY 22L, Amdt 4F

Philadelphia, PA, Philadelphia Intl, RNAV (GPS) RWY 35, Amdt 5

Commerce, TX, Commerce Muni, RNAV (GPS) RWY 36, Orig-D

Fort Worth, TX, Kenneth Copeland, RNAV (GPS) RWY 17, Orig-A

Fort Worth, TX, Kenneth Copeland, RNAV (GPS) RWY 35, Orig-A

Mineola/Quitman, TX, Wood County—Collins Fld, RNAV (GPS) RWY 18, Orig-C

Mineola/Quitman, TX, Wood County—Collins Fld, RNAV (GPS) RWY 36, Orig-D

Mineola/Quitman, TX, Wood County—Collins Fld, Takeoff Minimums and Obstacle DP, Amdt 1A

Mineola/Quitman, TX, Wood County—Collins Fld, VOR/DME-B, Amdt 2A, CANCELLED

Mount Vernon, TX, Franklin County, RNAV (GPS) RWY 31, Orig-B

Ogden, UT, Ogden-Hinckley, RNAV (GPS) RWY 3, Amdt 1B

Newport, VT, Northeast Kingdom Intl, RNAV (GPS) RWY 36, Amdt 1B

Huntington, WV, Tri-State/Milton J Ferguson Field, ILS OR LOC RWY 12, Amdt 15

Huntington, WV, Tri-State/Milton J Ferguson Field, ILS OR LOC RWY 30, Amdt 8

Huntington, WV, Tri-State/Milton J Ferguson Field, RNAV (GPS) RWY 30, Amdt 2

[FR Doc. 2020-07614 Filed 4-10-20; 8:45 am]

BILLING CODE 4910-13-P